GENERAL SERVICES ADMINISTRATION

Office of Governmentwide Policy

Governmentwide Relocation Advisory Board

AGENCY: Office of Governmentwide Policy, GSA.

ACTION: Notice.

SUMMARY: The General Services Administration (GSA) is announcing the public meetings of the Governmentwide Relocation Advisory Board for 2005. The Board is examining a wide range of management issues related to relocation polices. Its first priority is to review the current policies promulgated through the Federal Travel Regulation (FTR) for relocation allowances and associated reimbursements. Government Relocation Advisory Board Meetings scheduled for 2005:

January 26, 2005

Location: Omni Shoreham Hotel, 2500 Calvert Street, N.W., Washington, DC 20008.

Time: 9:00 a.m. to 4:00 p.m. (eastern time). (A public-accessible teleconference line will be available for the entire meeting.)

February 16, 2005

Location: Omni Shoreham Hotel, 2500 Calvert Street, N.W., Washington, DC 20008.

Time: 9:00 a.m. to 4:00 p.m. (eastern time). (A public-accessible teleconference line will be available for the entire meeting.)

March 23, 2005

Location: Omni Shoreham Hotel, 2500 Calvert Street, N.W., Washington, DC 20008.

Time: 9:00 a.m. to 4:00 p.m. (eastern time). (A public-accessible teleconference line will be available for the entire meeting.)

May 25, 2005

Location: Omni Shoreham Hotel, 2500 Calvert Street, N.W., Washington, DC 20008.

Time: 9:00 a.m. to 4:00 p.m. (eastern time). (A public-accessible teleconference line will be available for the entire meeting.)

FOR FURTHER INFORMATION CONTACT: Patrick O'Grady, Designated Federal Officer (DFO), General Services Administration, 1800 F Street NW, Room 1221, Washington, DC 20405, via phone at (202) 208-4493; email at patrick.ogrady@gsa.gov; fax at (202) 208-1398, for further information, including teleconference call-in numbers and access codes, and information on submitting written or brief oral comments that is not mentioned below. General information concerning the Relocation Advisory Board can be obtained on the GSA Web site: www.gsa.gov/travelpolicy.

Providing Oral or Written Comments at Board Meetings: GSA will accept written comments of any length, and accommodate oral public comments whenever possible. Public comments may be made at the January 26, or February 12, or March 25 meeting. GSA expects that public statements presented at its meetings will not be repetitive of previously submitted oral or written statements.

Oral Comments: In general, each individual or group requesting an oral presentation will be limited to a total time of ten minutes (unless otherwise indicated). Requests to provide oral comments must be in writing (e-mail, fax or mail) and received by Mr. O'Grady no later than noon eastern time five business days prior to the meeting in order to reserve time on the meeting agenda. Speakers should bring at least 75 copies of their comments and presentation slides for distribution to the Board and the public at the meeting.

Written Comments: Although the GSA accepts written comments until the date of the meeting, Mr. O'Grady should receive written comments no later than noon eastern time five business days prior to the meeting so that the comments may be provided to the Board for their consideration prior to the meeting. Comments should be provided to Mr. O'Grady at the previously noted address, as follows: one hard copy with original signature, and one electronic copy via e-mail in a Word, WordPerfect, or Adobe Acrobat PDF file. Those providing written comments are also asked to bring 75 copies of the comments to the meeting.

SUPPLEMENTARY INFORMATION: This notice is published in accordance with the provisions of the Federal Advisory Committee Act (Pub. L. 92-463), and advises of the public meetings for the GSA Governmentwide Relocation Advisory Board. The Administrator of General Services has determined that the establishment of the Board is necessary and in the public interest.

Meeting Access: Individuals requiring special accommodation at this meeting, including wheelchair access to the conference rooms, should contact the DFO at the phone number or e-mail address noted above at least 10 days prior to the meeting so that appropriate arrangements can be made.

Dated: December 14, 2005.
Becky Rhodes,
Deputy Associate Administrator.

[FR Doc. 04-27828 Filed 12-20-04; 8:45 am]

BILLING CODE 6820-14-S